Proclamation 9763 of June 1, 2018

African-American Music Appreciation Month, 2018

By the President of the United States of America

A Proclamation

During African-American Music Appreciation Month, we celebrate the tremendous achievements and contributions of African-American musicians. The musical ingenuity of talented African American artists laid the foundation for so many recognizable and cherished genres of music, including rock and roll, rhythm and blues, jazz, gospel, hip hop, and rap.

Throughout our history, African-American music has demonstrated its power to elicit comfort, healing, happiness, conviction, and inspiration—as well as its ability to unite people of all backgrounds. Today, it resonates in jazz quartets, rock and roll guitar solos, gospel choirs, and hip hop beats. The expression of these artistic and diverse styles of music acts as a voice for freedom, justice, love, and the pursuit of happiness.

African-American music has played a significant role in shaping the American dream and instilling a sense of pride in being an “American.” The talent and creativity of pioneers like Miles Davis, Duke Ellington, Nat King Cole, Etta James, Whitney Houston, and many others have indelibly enriched our culture and our lives. As Etta James noted, “I wanna show that gospel, country, blues, rhythm and blues, jazz, rock ‘n’ roll are all just really one thing. Those are the American music and that is the American culture.” Etta James recognized that the history and evolution of music in America reflects our country's cultural uniqueness and our country's commitment to protect and love every voice.

African-American music brings together people of all backgrounds—people who hum it, whistle it, and sing it—to enjoy blended tunes and hard-to-hit notes. Its contagious rhythm empowers its listeners to recall memories of the past and grow excited for the future. Our Nation is indebted to all the African-American artists whose music fills our airways and our homes, lifts our spirits, and compels us to think, dance, and sing. These musicians and their legacies ignite our imaginations and prove to us that the sky is the limit.

NOW, THEREFORE, I, DONALD J. TRUMP, President of the United States of America, by virtue of the authority vested in me by the Constitution and the laws of the United States, do hereby proclaim June 2018 as African-American Music Appreciation Month. I call upon public officials, educators, and all the people of the United States to observe this month with appropriate activities and programs that raise awareness and appreciation of African-American music.

IN WITNESS WHEREOF, I have hereunto set my hand this first day of June, in the year of our Lord two thousand eighteen, and of the Independence of the United States of America the two hundred and forty-second.

[FR Doc. 2018-12260

Filed 6-4-18; 11:15 am]

Billing code 3295-F8-P